INTERNATIONAL TRADE COMMISSION

[Investigation Nos. 701-TA-603-605 and 731-TA-1413-1415 (Final)]

Glycine From China, India, Japan, and Thailand; Revised Schedule for Final Phase of Investigations

AGENCY: United States International Trade Commission.

ACTION: Notice.

DATE: February 6, 2019.

FOR FURTHER INFORMATION CONTACT: Celia Feldpausch (202-205-2387), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: On October 31, 2018, the Commission established a schedule for the conduct of the final phase of these investigations (83 FR 62345, December 3, 2018). Due to the lapse in appropriations and ensuing cessation of Commission operations, the Commission is revising its schedule.

The Commission's revised dates in the schedule are as follows: The deadline for filing prehearing briefs is April 23, 2019; requests to appear at the hearing should be filed on or before April 25, 2019; a prehearing conference will be held on April 25, 2019, if deemed necessary; the hearing is on April 30, 2019 beginning at 9:30 a.m.; the deadline for filing posthearing briefs and for written statements from any person who has not entered an appearance as a party is May 7, 2019; final release of information is on May 22, 2019; and final party comments are due on May 24, 2019.

For further information concerning these investigations, see the Commission's notice cited above and the Commission's Rules of Practice and Procedure, part 201, subparts A through E (19 CFR part 201), and part 207, subparts A, D, E, and F (19 CFR part 207).

Authority: These reviews are being conducted under authority of title VII of the Tariff Act of 1930; this notice is published pursuant to section 207.21 of the Commission's rules.

By order of the Commission.
Issued: February 7, 2019.
Lisa Barton,
Secretary to the Commission.

[FR Doc. 2019-02012 Filed 2-11-19; 8:45 am]

BILLING CODE 7020-02-P